DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: January 5, 2016.
Roy E. Wright,
Deputy Associate Administrator for Insurance and Mitigation, Department of Homeland Security, Federal Emergency Management Agency.

State and county | Location and case No. | Chief executive officer of community | Community map repository | Effective date of modification | Community No.
Idaho:
Ada (FEMA Docket No.: B-1531) | Unincorporated areas of Ada County (15-10-0807P) | The Honorable Dave Case, Ada County Commissioner, 200 West Front Street, 3rd Floor, Boise, ID 83702 | 200 West Front Street, 3rd Floor, Boise, ID 83702 | Oct. 14, 2015 | 160001
Kootenai (FEMA Docket No.: B-1531) | Unincorporated areas of Kootenai County (15-10-0478P) | Mr. David Stewart, Chairman, Board of County Commissioners, 451 Government Way, Coeur d'Alene, ID 83816 | Assessors Department, Kootenai County Court House, 451 Government Way, Coeur d'Alene, ID 83816 | Oct. 29, 2015 | 160076
Teton (FEMA Docket No.: B-1525) | Unincorporated areas of Teton County (15-10-0131P) | The Honorable Bill Leake, Chair, Board of Teton County Commissioners, Teton County Courthouse, 150 Courthouse Drive, Driggs, ID 83422 | 89 N Main, Suite 6, P.O. Box 763, Driggs, ID 83422 | Oct. 16, 2015 | 160230
Illinois:
Adams (FEMA Docket No.: B-1531) | City of Quincy (14-05-8464P) | The Honorable Kyle A. Moore, Mayor, City of Quincy, 730 Main Street, Quincy, IL 62301 | Quincy City Hall, 730 Maine Street, Quincy, IL 62301 | Oct. 20, 2015 | 170003
Adams (FEMA Docket No.: B-1533) | City of Quincy (15-05-4067P) | The Honorable Kyle A. Moore, Mayor, City of Quincy, 730 Maine Street, Quincy, IL 62301 | Quincy City Hall, 730 Maine Street, Quincy, IL 62301 | Sept. 24, 2015 | 170003
Adams (FEMA Docket No.: B-1533) | Unincorporated areas of Adams County (15-05-4067P) | The Honorable Les Post, Chairman, Adams County Board, 101 North 54th Street, Quincy, IL 62305 | Adams County Highway Department, 101 North 54th Street, Quincy, IL 62305 | Sept. 24, 2015 | 170001
Cook (FEMA Docket No.: B-1525) | Village of Palatine (15-05-3589P) | The Honorable Jim Schwantz, Mayor, Village of Palatine, 150 West Wilson Street, Palatine, IL 60067 | Village Hall, 200 East Wood Street, Palatine, IL 60067 | Oct. 6, 2015 | 175170
Indiana: Lake (FEMA Docket No.: B-1525) | City of Hammond (15-05-1481P) | The Honorable Thomas M. McDermott, Jr., Hammond City Hall, Second Floor, 5925 Calumet Avenue, Hammond, IN 46320 | 5925 Calumet Avenue, Hammond, IN 46320 | Oct. 2, 2015 | 180134
Iowa: Black Hawk (FEMA Docket No.: B-1506) | City of Cedar Falls (14-07-2387P) | The Honorable Jon Crews, Mayor, City of Cedar Falls, 220 Clay Street, Cedar Falls, IA 50613 | 220 Clay Street, Cedar Falls, IA 50613 | Jul. 15, 2015 | 190017
Kansas:
Reno (FEMA Docket No.: B-1525) | City of Hutchinson (15-07-0592P) | The Honorable Cindy Proett, Mayor, City of Hutchinson, City Hall, 125 East Avenue B, Hutchinson, KS 67501 | 125 East Avenue B, Hutchinson, KS 67501 | Oct. 2, 2015 | 200283
Reno (FEMA Docket No.: B-1525) | Unincorporated areas of Reno County (15-07-0592P) | The Honorable James D. Schlickau, Chairman, Reno County Commission, 206 West 1st Avenue, Hutchinson, KS 67505 | 600 Scott Boulevard, Hutchinson, KS 67505 | Oct. 2, 2015 | 200567
Maine: York (FEMA Docket No.: B-1525) | Town of York (15-01-0844P) | Mr. Stephen H. Burns, Town Manager, Town of York, 186 York Street, York, ME 03909 | 186 York Street, York, ME 03909 | Oct. 1, 2015 | 230159
Missouri:
Scott (FEMA Docket No.: B-1531) | City of Scott City (15-07-0234P) | The Honorable Tim Porch, Mayor, City of Scott City, 215 Chester Avenue, City of Scott City, MO 63780 | c/o Building Inspector Robert Hodo, 215 Chester Avenue, Scott City, MO 63780 | Oct. 14, 2015 | 290414
Scott (FEMA Docket No.: B-1531) | Unincorporated areas of Scott County (15-07-0234P) | The Honorable Jamie Burger, Scott County Presiding Commissioner, 131 South Winchester Street, Benton, MO 63736 | 131 South Winchester Street, P.O. Box 245, Benton, MO 63736 | Oct. 14, 2015 | 290837
Ohio: Lorain (FEMA Docket No.: B-1531) | City of Elyria (15-05-2448P) | The Honorable Holly C. Brinda, Mayor, City of Elyria City Hall, 3rd Floor, 131 Court Street, Elyria, OH 44035 | City Hall, Suite 101, 131 Court Street, Elyria, OH 44035 | Oct. 20, 2015 | 390350
Oregon: Multnomah (FEMA Docket No.: B-1531) | City of Troutdale (15-10-0523P) | The Honorable Doug Daoust, Mayor, City of Troutdale, 219 East Historic Columbia River Highway, Troutdale, OR 97060 | 219 East Historic Columbia River Highway, Troutdale, OR 97060 | Oct. 28, 2015 | 410184
Texas:
Denton (FEMA Docket No.: B-1531) | Town of Hickory Creek (14-06-4263P) | The Honorable John Smith, Mayor, Town of Hickory Creek, 1075 Ronald Reagan Avenue, Hickory Creek, TX 75065 | 1075 Ronald Reagan Avenue, Hickory Creek, TX 75065 | Oct. 28, 2015 | 481150
Denton (FEMA Docket No.: B-1531) | Unincorporated areas of Denton County (14-06-4263P) | The Honorable Mary Horn, County Judge, Denton County, 1450 East McKinney Street, Denton, TX 76209 | 1505 East McKinney Street, Suite 175, Denton, TX 76209 | Oct. 28, 2015 | 480774

[FR Doc. 2016-00864 Filed 1-15-16; 8:45 am]

BILLING CODE 9110-12-P